DEPARTMENT OF THE INTERIOR

Bureau of Land Management

Notice of Intent To Prepare a Resource Management Plan for the Ely District and Associated Environmental Impact Statement

AGENCY: Bureau of Land Management, Ely Field Office, Interior.

ACTION: Notice of Intent to prepare a comprehensive Resource Management Plan (RMP) and associated Environmental Impact Statement (EIS) for the Ely District, located within Lincoln and White Pine counties and the northeast portion of Nye County, Nevada.

SUMMARY: In compliance with the Federal Land Policy and Management Act of 1976, as amended (43 U.S.C. 1701 et seq.), and the National Environmental Policy Act of 1969 (42 U.S.C. 4321 et seq.), the Bureau of Land Management (BLM) will prepare a Resource Management Plan to consider a range of alternatives for BLM management of public lands within the Ely District. In conjunction with the RMP, an associated EIS will be prepared to assess the environmental, social, and economic effects of the alternatives considered in the RMP. The BLM will work collaboratively with interested parties to identify the management decisions that are best suited to local, regional, and national needs and concerns. The public scoping process will identify planning issues and develop planning criteria, including an evaluation of existing land use plans in the context of the needs and interest of the public.

DATES: This notice initiates the public scoping process. Comments on issues and planning criteria can be submitted in writing to the address listed below and will be accepted throughout the creation of the Draft RMP/Draft EIS. All public meetings will be announced through the local news media, newsletters, and the BLM Web site (http://blm.ensr.com) at least 15 days prior to the event. The minutes and list of attendees for each meeting will be available to the public and open for 30 days to any participant who wishes to clarify the views they expressed.

Public Involvement: Information on planning issues and planning criteria can be obtained by accessing the BLM Web site (http://blm.ensr.com) or by writing to the address listed below. Comments on issues and planning criteria can be submitted in writing to the address listed below and will be accepted throughout the creation of the Draft RMP/Draft EIS. The public will be invited to participate in the scoping process via attendance at public meetings and review of the draft RMP/EIS. All public meetings will be announced through the local news media, newsletters, and the BLM web site (http://blm.ensr.com.) The BLM has scheduled six public scoping meetings to obtain input on the issues to be addressed within the Ely RMP/EIS. The meetings will be held at the following locations: BLM Las Vegas Field Office; Mesquite, NV; Ely, NV; Reno, NV; Caliente, NV and Tonopah, NV.

These meetings will provide an opportunity for the public to learn about the Ely RMP/EIS process and to comment directly on the scope of the planning initiative. The public is encouraged to attend the scoping meetings and/or send written comments and suggestions concerning the preparation of the RMP/EIS by following the instructions below.

ADDRESSES: Written comments on the scope of the Ely RMP should be submitted within 60 days of the date of publication of this notice and addressed to: Bureau of Land Management, Gene A. Kolkman, Ely Field Manager, HC 33, Box 33500, Ely, NV 89301-9408; Fax 775-289-1910. Documents pertinent to this proposal may be examined at the Ely Field Office. Freedom of Information Act Considerations: Comments, including names and street addresses of respondents, will be available for public review at the Ely Field Office during regular business hours [7:30 a.m.-4:30 p.m. PST], Monday through Friday, except holidays, and may be published as part of the EIS. Individual respondents may request confidentiality. If you wish to withhold your name or street address from public review or from disclosure under the Freedom of Information Act, you must state this prominently at the beginning of your written comment. Such requests will be honored to the extent allowed by law. All submissions from organizations and businesses, and from individuals identifying themselves as representatives or officials of organizations or businesses, will be available for public inspection in their entirety.

FOR FURTHER INFORMATION CONTACT: For further information and/or to have your name added to our mailing list, contact Gene Drais, Project Manager for the Ely RMP/EIS, at the above address, telephone (775) 289-1880 or e-mail gene_drais@nv.blm.gov.

SUPPLEMENTARY INFORMATION: The BLM's Ely District comprises about 11.4 million acres of public land in all of Lincoln and White Pine counties, and the northeast portion of Nye County, Nevada. Comprehensive land use plan (LUP) evaluations of the Egan Resource Management Plan in 2001 and the Schell and Caliente Management Framework Plans (MFP) in 2002 indicated the need for LUP revisions to provide appropriate management of all BLM programs and to address deteriorating ecological conditions. A comprehensive RMP will be prepared for the entire Ely District. Restoring and maintaining the ecological health of Great Basin landscapes in eastern Nevada must be done in concert with collaborative partners, resource users, and local communities. In addition, the RMP/EIS will provide management direction for future implementation of the Great Basin Restoration Initiative (GBRI) within the Ely District. The restoration effort to implement the GBRI within the Ely District is called the Eastern Nevada Landscape Restoration Project.

Key issues likely to be considered in developing and analyzing alternatives to be addressed within the Ely RMP/EIS include: ecological health; air quality; water resources; cultural and paleontological resources; special status species of flora and fauna; fish and wildlife; wild horses; fire management; livestock grazing; recreation; lands and realty; minerals (including oil, gas, and geothermal); special land use designations (i.e. Wild Horse Herd Management Areas, Areas of Critical Environmental Concern); and socioeconomic effects of plan implementation. Based on analysis of these multiple factors, the BLM will select a preferred alternative for implementation in the final RMP, which will provide management direction for all Ely District programs. After gathering public comments on what issues the plan should address, the suggested issues will be placed in one of three categories:

1. Issues to be resolved in the plan;

2. Issues resolved through policy or administrative action; or

3. Issues beyond the scope of this plan.

Rationale will be provided in the plan for each issue placed in category two or three. In addition to these major issues, a number of management questions and concerns will be addressed in the plan. The public is encouraged to help identify these questions and concerns during the scoping phase.

Dated: December 18, 2002.
Gene A. Kolkman,
Field Manager.

[FR Doc. 03-3173 Filed 2-7-03; 8:45 am]

BILLING CODE 4310-HC-P